FEDERAL ACCOUNTING STANDARDS ADVISORY BOARD

Notice of Name and Governance Changes to FASAB Subcommittee

AGENCY: Federal Accounting Standards Advisory Board.

ACTION: Notice.

SUMMARY: Notice is hereby given that the Federal Accounting Standards Advisory Board (FASAB) has agreed to changes in the name,

structure, and governance of the Accounting Standards Implementation Committee (ASIC or “the Committee”), formerly the Accounting and Auditing Policy Committee (AAPC).

ADDRESSES: The updated ASIC Charter, Operating Procedures, and the new Statement of Responsibilities and Characteristics of Members of the Accounting Standards Implementation Committee are available at https://fasab.gov/about-asic/.

FOR FURTHER INFORMATION CONTACT: Ms. Monica R. Valentine, Executive Director, 441 G Street NW, Suite 1155, Washington, DC 20548, or call (202) 512-7350.

Authority: 31 U.S.C. 3511(d); Federal Advisory Committee Act, 5 U.S.C. 1001-1014.

Dated: February 3, 2025.
Monica R. Valentine,
Executive Director.

[FR Doc. 2025-02290 Filed 2-5-25; 8:45 am]

BILLING CODE 1610-02-P